DEPARTMENT OF TRANSPORTATION

Federal Transit Administration

[FTA Docket No. FTA 2021-0011]

Request for Information on Transit Safety Concerns

AGENCY: Federal Transit Administration, Department of Transportation (DOT).

ACTION: Request for information.

SUMMARY: The Federal Transit Administration (FTA) is responsible for administering a Public Transportation Safety Program (Safety Program) to improve the safety performance of the Nation's transit systems. FTA adopted the principles and methods of Safety Management System (SMS) as the foundation of the Safety Program. FTA uses SMS processes and activities to proactively identify and address safety risk at the industry level. Through this Request for Information (RFI), FTA solicits input from the public regarding information and data to identify transit safety concerns that FTA should evaluate for potential action at the Federal level.

DATES: Comments are requested by August 16, 2021.

ADDRESSES: You may file comments identified by docket number FTA-2021-0011 by any of the following methods:

• Federal eRulemaking Portal: Go to https://www.regulations.gov and follow the online instructions for submitting comments.

• Mail: Docket Management Facility, U.S. Department of Transportation, 1200 New Jersey Ave. SE, West Building Ground Floor, Room W12-140, Washington, DC 20590-0001.

• Hand Delivery or Courier: West Building Ground Floor, Room W12-140, 1200 New Jersey Ave. SE, between 9:00 a.m. and 5:00 p.m. ET, Monday through Friday, except Federal holidays.

• Fax: (202) 493-2251.

Instructions: For detailed instructions on submitting comments, see the Public Participation heading of the SUPPLEMENTARY INFORMATION section of this document. Note that all comments received will be posted without change to http://www.regulations.gov, including any personal information provided.

Privacy Act: Except as provided below, all comments received into the docket will be made public in their entirety. The comments will be searchable by the name of the individual submitting the comment (or signing the comment, if submitted on behalf of an association, business, labor union, etc.). You should not include information in your comment that you do not want to be made public. You may review DOT's complete Privacy Act Statement in the Federal Register published on April 11, 2000 (65 FR 19477-78) or at https://www.transportation.gov/ privacy.

FOR FURTHER INFORMATION CONTACT: Ray Biggs, Office of Transit Safety and Oversight—Safety Risk Management and Assurance Division, 1200 New Jersey Avenue SE, Mail Stop TSO-10, Washington, DC 20590, (202) 366-7460 or Ray.Biggs@dot.gov.

SUPPLEMENTARY INFORMATION: Through this RFI, FTA is seeking information and data from the public on safety concerns and issues recommended for additional assessment and potential action at the Federal level.

In August 2016, FTA published the Public Transportation Safety Program regulation, 49 CFR part 670, which establishes substantive and procedural rules for FTA's administration of the program to carry out the mandate of 49 U.S.C. 5329 to improve the safety of transit systems. In Part 670, FTA adopted the principles and methods of SMS and clarified that FTA will follow these principles and methods in its development of rules, regulations, policies, guidance, best practices, and technical assistance administered under the authority of 49 U.S.C. 5329.

In July 2018, FTA furthered the advancement of SMS in the transit industry by publishing the Public Transportation Agency Safety Plan regulation, 49 CFR part 673 (Part 673). Part 673 requires certain transit agencies to adopt SMS principles and methods; develop, certify, implement, and update Agency Safety Plans (ASPs); and coordinate ASP elements with other FTA programs and rules, as specified in 49 U.S.C. 5303, 5304, and 5329. In carrying out Part 673 requirements, transit agencies identify safety hazards and mitigate safety risks within their transit system through the implementation of ASPs and SMS processes and activities.

FTA expanded its safety oversight capabilities by establishing an internal SMS approach for identifying transit safety hazards and mitigating safety risks. In 2019, FTA implemented its Safety Risk Management (SRM) process to proactively address safety concerns impacting the transit industry. The SRM process follows a five-step continuous improvement approach: (1) Identify safety concerns; (2) assess safety risk; (3) develop mitigation; (4) implement mitigation; and (5) monitor safety performance. Appropriate mitigations advanced by FTA to resolve safety risk may include new proposed safety regulations, general or special directives, and safety advisories, as well as a range of technical assistance and training activities; enhanced data collection; or recommendations for further investigation, evaluation, or examination.

FTA utilizes its SRM process to address safety topics identified in FTA's SRM Action Plan. The FTA SRM Action Plan is informed by a review of National Transportation Safety Board and Transit Advisory Committee for Safety recommendations to FTA, data from the National Transit Database, and additional industry sources as appropriate. FTA is currently analyzing four safety concerns utilizing its SRM process: Inward- and outward-facing audio and image recorders, roadway worker protection, signal system safety, and end-of-railcar door messaging.

FTA is developing the next SRM Action Plan to prioritize safety concerns for future SRM analyses. The transit industry's input is critically important in identifying and proactively mitigating safety concerns impacting the larger transit community. As such, FTA requests information from the public on safety concerns that the industry believes should be considered for inclusion in FTA's next SRM Action Plan.

Respondents to this RFI may respond to any question and do not need to respond to all questions. This RFI offers transit industry personnel, researchers, contractors, government entities, transit users, and other interested parties the opportunity to inform FTA's next SRM Action Plan.

Questions to the Public

FTA seeks to gather information and discover valid and reliable aggregate data to support the identification and evaluation of safety concerns at the Federal level. The following list of questions and topic areas are intended to guide respondents in this effort:

Safety Concerns

(1) What transit safety concerns should FTA consider analyzing through its SRM process for small transit providers? Large transit providers? Rail, bus, and multimodal transit providers? Briefly describe why each identified safety concern should be considered, including any data-based evidence that may be available.

(2) Are there any new or emerging safety concerns that may not yet appear in industry data (either through near-misses or not meeting reporting thresholds, for example) that should be analyzed by FTA to proactively mitigate future impacts?

Sources of Information and Data

(3) Are there additional sources of information and data, beyond those detailed in this request, that may help inform FTA's identification of high-priority safety concerns for the SRM process and potential action at the Federal level?

(4) Are there additional sources of information and data, beyond those detailed in this request, that FTA should consider in supporting the assessment and mitigation of identified transit safety risks?

(5) Should data sources outside of those maintained by transit agencies and FTA, such as geographic or demographic data, be considered to support the identification of safety concerns and assessment and mitigation of safety risk? If so, which data sources, and why?

Examples

(6) What are examples of safety concerns evaluated by a transit agency that can be shared with FTA?

(7) What are examples of high-impact data that support the identification of safety concerns and hazards and the corresponding safety risk assessment and mitigation that can be shared with FTA?

(8) Is there anything else FTA should know regarding the identification of safety concerns for the SRM process?

Please clearly indicate which question(s) you address in your response and any evidence to support assertions, where practicable.

Public Participation

How do I prepare and submit comments?

To ensure that your comments are filed correctly, please include the docket number provided [FTA-2021-0011] in your comments.

Please submit one copy of your comments, including any attachments, to the docket following the instructions given above under ADDRESSES. Please note, if you are submitting comments electronically as a PDF (Adobe) file, these documents must be scanned using an Optical Character Recognition process, thus allowing the Agency to search and copy certain portions of submissions.

Will FTA consider late comments?

FTA will consider all comments received before the close of business on the comment closing date indicated above under DATES. To the extent practicable, the Agency will also consider comments received after that date.

How can comments submitted by other people be read?

Comments received may be read at the Docket Management Facility, U.S. Department of Transportation, 1200 New Jersey Ave. SE, West Building Ground Floor, Room W12-140, Washington, DC 20590-0001. The hours of the docket are indicated above in the same location. Comments may also be located on the internet, identified by the docket number at the heading of this notice, at http://www.regulations.gov.

Please note, this RFI will serve as a planning document. The RFI should not be construed as policy, a solicitation for applications, or an obligation on the part of the Government.

Nuria I. Fernandez,
Administrator.

[FR Doc. 2021-15078 Filed 7-14-21; 8:45 am]

BILLING CODE 4910-57-P